DEPARTMENT OF DEFENSE

Department of the Navy

Notice of Availability of Invention for Non-Exclusive, Partially Exclusive, or Exclusive Licensing

AGENCY: Department of the Navy, DOD.

ACTION: Notice.

SUMMARY: In accordance with 37 CFR 404, announcement is made of the availability of Navy patent #5,520,331 entitled “Liquid Atomizing Nozzle”, for non-exclusive, partially exclusive or exclusive licensing. The listed patent has been assigned to the United States of America as represented by the Secretary of the Navy, Washington, DC.

This patent covers a convergent/divergent gas nozzle, which atomizes a liquid provided through a delivery tube, providing an extremely fine mist having a high momentum. The nozzle is particularly well suited to fire extinguishment.

Under the authority of Section 11(a) (2) of the Federal Technology Transfer Act of 1986 (Public Law 99-502) and Section 207 of Title 35, United States Code, the Department of the Navy, as represented by the Naval Air Warfare Center, wishes to license the patent in a non-exclusive, exclusive, or partially exclusive manner to a party interested in manufacturing, using, and/or selling devices or processes involved in this patent.

FOR FUTHER INFORMATION CONTACT: Hans Kohler Business Development Office NAWCAD Lakehurst, New Jersey 08733, phone (732) 323-2948, E-mail: kohlerhk@navair.navy.mil.

Dated: July 11, 2000.
J.L. Roth,
Lieutenant Commander, Judge Advocate General's Corps, U.S. Navy, Federal Register Liaison Officer.

[FR Doc. 00-18339 Filed 7-19-00; 8:45 am]

BILLING CODE 3510-FF-P